DEPARTMENT OF HOMELAND SECURITY

Federal Emergency Management Agency

[Docket ID FEMA-2020-0002; Internal Agency Docket No. FEMA-B-2076]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Tuscaloosa | City of Tuscaloosa (20-04-2661P). | The Honorable Walt Maddox, Mayor, City of Tuscaloosa, P.O. Box 2089, Tuscaloosa, AL 35403. | City Hall, 2201 University Boulevard, Tuscaloosa AL 35401. | https://msc.fema.gov/portal/advanceSearch | Jan. 4, 2021 | 010203
Colorado: Jefferson | Unincorporated areas of Jefferson County (20-08-0724P). | The Honorable Lesley Dahlkemper, Chair, Jefferson County Board of Commissioners, 100 Jefferson County Parkway, Suite 5550, Golden, CO 80419. | Jefferson County Department of Planning and Zoning, 100 Jefferson County Parkway, Suite 3550, Golden, CO 80419. | https://msc.fema.gov/portal/advanceSearch | Mar. 19, 2021 | 080087
Connecticut: New Haven | Town of Seymour (20-01-0712P). | The Honorable W. Kurt Miller, First Selectman, Town of Seymour Board of Selectmen, 1 1st Street, Seymour, CT 06483. | Town Hall, 1 1st Street, Seymour, CT 06483. | https://msc.fema.gov/portal/advanceSearch | Feb. 16, 2021 | 090088
Florida:
Lake | City of Leesburg (20-04-1242P). | Mr. Al Minner, Manager, City of Leesburg, 501 West Meadow Street, Leesburg, FL 34748. | City Hall, 501 West Meadow Street, Leesburg, FL 34748. | https://msc.fema.gov/portal/advanceSearch | Mar. 12, 2021 | 120136
Lake | Unincorporated areas of Lake County (20-04-1242P). | The Honorable Jeff Cole, Manager, Lake County, P.O. Box 7800, Tavares, FL 32778. | Lake County Administration Building, 315 West Main Street, Tavares, FL 32778. | https://msc.fema.gov/portal/advanceSearch | Mar. 12, 2021 | 120421
Manatee | Unincorporated areas of Manatee County (20-04-3373P). | The Honorable Betsy Benac, Chair, Manatee County Board of Commissioners, 1112 Manatee Avenue West, Bradenton, FL 34205. | Manatee County Administration Building, 1112 Manatee Avenue West, Bradenton, FL 34205. | https://msc.fema.gov/portal/advanceSearch | Feb. 16, 2021 | 120153
Palm Beach | City of Westlake (20-04-2587P). | The Honorable Roger Manning, Mayor, City of Westlake, 4001 Seminole Pratt Whitney Road, Westlake, FL 33470. | City Hall, 4001 Seminole Pratt Whitney Road, Westlake, FL 33470. | https://msc.fema.gov/portal/advanceSearch | Mar. 15, 2021 | 120018
Pinellas | City of Clearwater (20-04-4362P). | The Honorable Frank V. Hibbard, Mayor, City of Clearwater, P.O. Box 4748, Clearwater, FL 33758. | Engineering Department, 100 South Myrtle Avenue, Clearwater, FL 33756. | https://msc.fema.gov/portal/advanceSearch | Mar. 11, 2021 | 125096
Sarasota | Unincorporated areas of Sarasota County (20-04-5135P). | The Honorable Michael A. Moran, Chairman, Sarasota County Board of Commissioners, 1660 Ringling Boulevard, Sarasota, FL 34236. | Sarasota County Planning and Development Services Department, 1001 Sarasota Center Boulevard, Sarasota, FL 34240. | https://msc.fema.gov/portal/advanceSearch | Mar. 12, 2021 | 125144
Maryland:
Anne Arundel | Unincorporated areas of Anne Arundel County (20-03-1079P). | The Honorable Steuart Pittman, Anne Arundel County Executive, 44 Calvert Street, Annapolis, MD 21401. | Anne Arundel County Heritage Office Complex, 2664 Riva Road, Annapolis, MD 21401. | https://msc.fema.gov/portal/advanceSearch | Mar. 9, 2021 | 240008
Prince George's | City of Laurel (20-03-1079P). | The Honorable Craig A. Moe, Mayor, City of Laurel, 8103 Sandy Spring Road, Laurel, MD 20707. | City Hall, 8103 Sandy Spring Road, Laurel, MD 20707. | https://msc.fema.gov/portal/advanceSearch | Mar. 9, 2021 | 240053
Prince George's | Unincorporated areas of Prince George's County (20-03-1079P). | The Honorable Angela D. Alsobrooks, Prince George's County Executive, 14741 Governor Oden Bowie Drive, Upper Marlboro, MD 20772. | Prince George's County Department of Environment, 1801 McCormick Drive, Suite 500, Largo, MD 20774. | https://msc.fema.gov/portal/advanceSearch | Mar. 9, 2021 | 245208
Massachusetts: Bristol | Town of Easton (20-01-0637P). | The Honorable Dottie Fulginiti, Chair, Town of Easton Select Board, 136 Elm Street, Easton, MA 02356. | Department of Public Works, 130 Center Street, Easton, MA 02356. | https://msc.fema.gov/portal/advanceSearch | Mar. 15, 2021 | 250053
North Carolina: Pamlico | Town of Vandemere (20-04-5047P). | The Honorable Judy H. Thaanum, Mayor, Town of Vandemere, P.O. Box 338, Vandemere, NC 28587. | Town Hall, 1042 Pennsylvania Avenue, Vandemere, NC 28587. | https://msc.fema.gov/portal/advanceSearch | Mar. 11, 2021 | 370438
Pennsylvania:
Allegheny | Township of Shaler (20-03-0720P). | The Honorable David Shutter, President, Township of Shaler Board of Commissioners, 300 Wetzel Road, Glenshaw, PA 15116. | Township Hall, 300 Wetzel Road, Glenshaw, PA 15116. | https://msc.fema.gov/portal/advanceSearch | Mar. 1, 2021 | 421101
Lancaster | Township of East Lampeter (20-03-1645P). | Mr. Ralph Hutchison, Manager, Township of East Lampeter, 2250 Old Philadelphia Pike, Lancaster, PA 17602. | Planning, Zoning, and Building Department, 2250 Old Philadelphia Pike, Lancaster, PA 17602. | https://msc.fema.gov/portal/advanceSearch | Mar. 22, 2021 | 421771
South Carolina:
Charleston | City of Charleston (20-04-5212P). | The Honorable John J. Tecklenburg, Mayor, City of Charleston, 80 Broad Street, Charleston, SC 29401. | Department of Public Service, 2 George Street, Suite 2100, Charleston, SC 29401. | https://msc.fema.gov/portal/advanceSearch | Mar. 22, 2021 | 455412
Dillon | Town of Latta (20-04-2341P). | Mr. Jarett Taylor, Town of Latta Administrator, 107 Northwest Railroad Avenue, Latta, SC 29565. | Town Hall, 107 Northwest Railroad Avenue, Latta, SC 29565. | https://msc.fema.gov/portal/advanceSearch | Feb. 24, 2021 | 450067
Dillon | Unincorporated areas of Dillon County (20-04-2341P). | The Honorable Stevie Grice, Chairman, Dillon County Council, P.O. Box 449, Dillon, SC 29536. | Dillon County Administrative Building, 211 West Howard Street, Dillon, SC 29536. | https://msc.fema.gov/portal/advanceSearch | Feb. 24, 2021 | 450064
Tennessee: Williamson | City of Franklin (20-04-2146P). | The Honorable Ken Moore, Mayor, City of Franklin, 109 3rd Avenue South, Suite 103, Franklin, TN 37064. | Engineering Department, 109 3rd Avenue South, Franklin, TN 37064. | https://msc.fema.gov/portal/advanceSearch | Feb. 19, 2021 | 470206
Texas:
Burnet | Unincorporated areas of Burnet County (20-06-3344P). | The Honorable James Oakley, Burnet County Judge, 220 South Pierce Street, Burnet, TX 78611. | Burnet County Development services Department, 133 East Jackson Street, Burnet, TX 78611. | https://msc.fema.gov/portal/advanceSearch | Apr. 28, 2021 | 481209
Denton | City of Carrollton (20-06-0797P). | Ms. Erin Rinehart, Manager, City of Carrollton, 1945 East Jackson Road, Carrollton, TX 75006. | Engineering Department, 1945 East Jackson Road, Carrollton, TX 75006. | https://msc.fema.gov/portal/advanceSearch | Mar. 15, 2021 | 480167
Harris | Unincorporated areas of Harris County (20-06-2019P). | The Honorable Lina Hidalgo, Harris County Judge, 1001 Preston Street, Suite 911, Houston, TX 77002. | Harris County Permit Office, 10555 Northwest Freeway, Suite 120, Houston, TX 77092. | https://msc.fema.gov/portal/advanceSearch | Feb. 1, 2021 | 480287
Llano | Unincorporated areas of Llano County (20-06-3344P). | The Honorable Mary S. Cunningham, Llano County Judge, 801 Ford Street, Room 101, Llano, TX 78643. | Llano County Land Development and Emergency Management, 100 West Sandstone Street, Suite 200A, Llano, TX 78643. | https://msc.fema.gov/portal/advanceSearch | Apr. 28, 2021 | 481234
Tarrant | City of Arlington (20-06-2041P). | The Honorable Jeff Williams, Mayor, City of Arlington, P.O. Box 90231, Arlington, TX 76004. | Public Works and Transportation Department, 101 West Abram Street, Arlington, TX 76010. | https://msc.fema.gov/portal/advanceSearch | Mar. 8, 2021 | 485454
Tom Green | City of San Angelo (20-06-2379P). | The Honorable Brenda Gunter, Mayor, City of San Angelo, 72 West College Avenue, San Angelo, TX 76903. | City Hall, 301 West Beauregard Avenue, San Angelo, TX 76902. | https://msc.fema.gov/portal/advanceSearch | Feb. 22, 2021 | 480623
Webb | Unincorporated areas of Webb County (20-06-1430P). | The Honorable Tano E. Tijerina, Webb County Judge, 1000 Houston Street, 3rd Floor, Laredo, TX 78040. | Webb County Planning Department, 1110 Washington Street, Suite 302, Laredo, TX 78040. | https://msc.fema.gov/portal/advanceSearch | Feb. 1, 2021 | 481059
Virginia:
Goochland | Unincorporated areas of Goochland County (20-03-0873P). | The Honorable Susan F. Lascolette, Chair, Goochland County Board of Supervisors, P.O. Box 10, Goochland, VA 23063. | Goochland County Environmental and Development Review Department, 1800 Sandy Hook Road, Goochland, VA 23063. | https://msc.fema.gov/portal/advanceSearch | Feb. 8, 2021 | 510072
Henrico | Unincorporated areas of Henrico County (20-03-0873P). | Mr. John A. Vithoulkas, Manager, Henrico County, P.O. Box 90775, Henrico, VA 23273. | Henrico County Department of Public Works, 4305 East Parham Road, Henrico, VA 23228. | https://msc.fema.gov/portal/advanceSearch | Feb. 8, 2021 | 510077
Loudoun | Unincorporated areas of Loudoun County (20-03-1100P). | Mr. Tim Hemstreet, Loudoun County Administrator, P.O. Box 7000, Leesburg, VA 20177. | Loudoun County Office of Mapping and Geographic Information, 1 Harrison Street Southeast, Leesburg, VA 20175. | https://msc.fema.gov/portal/advanceSearch | Feb. 16, 2021 | 510090
Prince William | City of Manassas (20-03-0768P). | The Honorable Harry J. Parrish, II, Mayor, City of Manassas, 9027 Center Street, Manassas, VA 20110. | Public Works Department, 8500 Public Works Drive, Manassas, VA 20110. | https://msc.fema.gov/portal/advanceSearch | Feb. 4, 2021 | 510122

[FR Doc. 2020-27711 Filed 12-16-20; 8:45 am]

BILLING CODE 9110-12-P